FEDERAL COMMUNICATIONS COMMISSION

Notice of Public Information Collection(s) Being Reviewed by the Federal Communications Commission

March 25, 2004.

SUMMARY: The Federal Communications Commission, as part of its continuing effort to reduce paperwork burden invites the general public and other Federal agencies to take this opportunity to comment on the following information collection(s), as required by the Paperwork Reduction Act of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 3, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0686.

Title: Streamlining the International Section 214 Authorization Process and Tariff Requirements.

Form No: N/A.

Type of Review: Revision of a currently approved collection.

Respondents: Business or other for-profit

Number of Respondents: 1,650 respondents; 3,603 responses.

Estimated Time Per Response: 1-6,056 hours.

Frequency of Response: On occasion, quarterly, and annual reporting requirements, recordkeeping requirement and third party disclosure requirement.

Total Annual Burden: 148,053 hours.

Total Annual Cost: $16,162,000.

Privacy Act Impact Assessment: Not applicable.

Needs and Uses: On March 4, 2004, the Commission released a Notice of Proposed Rulemaking (NPRM), IB Docket No. 04-47, FCC 04-40. The Commission is seeking comment from the public on several potential changes to its international section 214 authorization process and the rules relating to the provision of the United States (U.S.)-international telecommunications services. Specifically, the Commission seeks comment on the following subjects: (1) Discontinuance of international service; (2) international 214 authorizations for CMRS carriers; (3) international roaming; (4) commonly-controlled subsidiaries; (5) modification of cable land license rules; and (6) other rules.

Federal Communications Commission.
Marlene H. Dortch,
Secretary.

[FR Doc. 04-7380 Filed 3-31-04; 8:45 am]

BILLING CODE 6712-01-P